DEPARTMENT OF TRANSPORTATION

Federal Aviation Administration

Notice of Availability of the Federal Aviation Administration Written Re-Evaluation, Adoption, and Finding of No Significant Impact and Record of Decision of Department of Navy's Final Environmental Impact Statement for the Navy's Environmental Assessment for the Mariana Islands Range Complex Airspace

AGENCY: Federal Aviation Administration, DOT.

ACTION: Notice of record of decision.

SUMMARY: The Federal Aviation Administration (FAA) announces its decision to adopt the Department of the Navy's (DoN) Environmental Assessment/Overseas Environmental Assessment (EA/OEA) for the Mariana Islands Range Complex Airspace. In accordance with the National Environmental Policy Act of 1969 (“NEPA”), the Council on Environmental Quality's (“CEQ”) regulations implementing NEPA, and other applicable authorities, including the Federal Aviation Administration (FAA) Order 1050.1F, Environmental Impacts: Policies and Procedures, paragraph 8-2, and FAA Order JO 7400.2K, “Procedures for Handling Airspace Matters,” paragraph 32-2-3, the FAA has conducted an independent review and evaluation of the DoN's Final Mariana Islands Range Complex (MIRC) Airspace EA/OEA dated June 2013. As a cooperating agency with responsibility for approving special use airspace the FAA provided subject matter expertise and closely coordinated with the DoN during the environmental review process, including preparation of the Draft EA/OEA and the Final EA/OEA. Based on its independent review and evaluation, the FAA has determined the Final EA/OEA, including its supporting documentation, as incorporated by reference, and other supporting documentation incorporated by reference for FAA's Written Re-Evaluation and Adoption of Final EA/OEA, adequately assesses and discloses the environmental impacts of the for Mariana Islands Range Complex Airspace, and that adoption of the Final EA/OEA by the FAA is authorized by regulation. FAA included the Written Re-Evaluation as part of the Adoption and FONSI-ROD because the DoN's FONSI is more than three years old. Accordingly, the FAA adopts the Final EA/OEA, and takes full responsibility for the scope and content that addresses the proposed changes to Special Use Airspace for MIRC.

FOR FURTHER INFORMATION CONTACT: Paula Miller, Airspace Policy and Regulations Group, Office of Airspace Services, Federal Aviation Administration, 800 Independence Avenue SW., Washington, DC 20591; telephone: (202) 267-7378.

SUPPLEMENTARY INFORMATION:

Background

In December 2012, in accordance with the National Environmental Policy Act and its implementing regulations, the DoN released a Draft EA/OEA. The Draft EA/OEA presented the potential environmental consequences of the DoN's proposal to establish Special Use Airspace to support Navy training activities that involve the use of advanced weapons systems. The DoN is the proponent for the MIRC Airspace and is the lead agency for the preparation of the EA/OEA, and the DoN issued their FONSI on June 15, 2013. As a result of public, agency, and tribal comments during the 46-day public comment period from December 20, 2012 through February 4, 2013 on the Draft EA/OEA, and the FAA aeronautical review process, the DoN, FAA, other federal and state agencies, and tribal governments have consulted to mitigate concerns while continuing to meet national defense training requirements. The FAA is a cooperating agency responsible for approving Special Use Airspace as defined in 40 CFR 1508.5.

Implementation

The FAA is establishing Restricted Area 7201A and Warning Areas 11, 12, and 13. The MIRC legal descriptions have been modified to identify the correct US Territory from the description in the Notice of Proposed Rulemaking published in the Federal Register (80 FR 51498) on August 25, 2015, and circularization to the public on September 15, 2015 with Docket 15-AWP-4NR. The revised legal descriptions do not change the Special Use Airspace request or the analysis done in the Final EA/OEA and the Aeronautical Study. The modification to the legal description did not change the area of analysis; therefore, the environmental and aeronautical analyses are still valid. The legal descriptions for the MRIC Airspace established, as noted in this notice, will be published in the Federal Register as a Final Rule and in the National Flight Data Digest (NFDD) with a June 22, 2017 effective date. A copy of the FAA Written Re-Evaluation/FONSI-ROD is available on the FAA Web site.

Right of Appeal

The Written Re-evaluation, the Adoption, and FONSI-ROD for the changes to the MIRC Airspace constitutes a final order of the FAA Administrator and is subject to exclusive judicial review under 49 U.S.C. 46110 by the U.S. Circuit Court of Appeals for the District of Columbia or the U.S. Circuit Court of Appeals for the circuit in which the person contesting the decision resides or has its principal place of business. Any party having substantial interest in this order may apply for review of the decision by filing a petition for review in the appropriate U.S. Court of Appeals no later than 60 days after the order is issued in accordance with the provisions of 49 U.S.C. 46110.

Dated: March 15, 2017.
Richard Roberts,
Acting Manager, Operations Support Group, Western Service Center.

[FR Doc. 2017-05800 Filed 3-22-17; 8:45 am]

BILLING CODE 4910-13-P